NATIONAL SCIENCE FOUNDATION

Notice of Intent To Seek Approval To Reinstate With Changes an Expired Information Collection

AGENCY: National Science Foundation.

ACTION: Notice and request for comments.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than 1 year.

DATES: Written comments on this notice must be received by September 7, 2006 to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or sent e-mail to splimpto@nsf.gov. Individuals who use a telecommunications device for the deaf (TDD) may call the Federal Information Relay Service (FIRS) at 1-800-877-8339 between 8 a.m. and 8 p.m., Eastern time, Monday through Friday. You may obtain a copy of the data collection instrument and instructions from Ms. Plimpton.

SUPPLEMENTARY INFORMATION: Title of Collection: Evaluation of the Research Experiences for Undergraduates (REU) Program in the NSF Division of Engineering Education and Centers (EEC).

OMB Number: 3145-0121.

Expiration Date of Approval: One Year.

Type of request: Reinstate with changes.

Abstract: NSF has supported the REU Program since 1987. The Program was evaluated after three and five years, but not since then. The proposed project will enable NSF's Division of Engineering Education and Centers (EEC) to learn about the activities, outcomes, and impacts of the REU awards made by that Division, as well as lessons learned to improve the results of future REU awards. Two types of REU awards will be studied, REU sites and REU supplements. REU Sites awards fund groups of undergraduates to work with faculty members and graduate students at an institution. Half of the undergraduates in an REU site must come from other institutions. EEC also makes REU Supplement awards to NSF-funded Engineering Research Centers for comparable similar for undergraduates.

The proposed study will be very similar to the two previous evaluations. It will focus on undergraduate REU participants and the faculty members who are responsible for the REU awards during 2003-06, and will examine in detail for the first time the activities, outcomes, and impacts of REU awards made in a single NSF division (EEC). The REU program officers in EEC want to learn in depth about the REU Site and ERC REU Supplements awards from former REU students and awardees, any differences between the Sites and ERC Supplements, and lessons learned for subsequent proposal review and advising prospective PIs. Information will also be used for EEC Program reporting requirements. The study will examine (1) the role of the REU program in aiding participating undergraduates in a decision to pursue graduate education or careers in engineering; and (2) the relationship between how REU activities are structured and managed and participants' subsequent education and career decisions and actions.

The survey data collection will be done on the World Wide Web.

Estimate of Burden: Public reporting burden for this collection of information is estimated to average 30 minutes per response.

Respondents: Individuals.

Estimated Number of Responses per Form: 4,525.

Estimated Total Annual Burden on Respondents: 2,262.5 hours (4,525 respondents at 30 minutes per response).

Frequency of Response: One time.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical, or other technological collection techniques or other forms of information technology.

Dated: June 28, 2006.
Catherine J. Hines,
Acting Reports Clearance Officer, National Science Foundation.

[FR Doc. 06-6007 Filed 7-5-06; 8:45 am]

BILLING CODE 7555-01-M